DEPARTMENT OF STATE

[Public Notice 6786]

Department of State Performance Review Board Members

In accordance with section 4314(c)(4) of 5 United States Code, the Department of State has appointed the following individuals to the Department of State Performance Review Board for career Senior Executive Service members:

Joan E. Donoghue, Principal Deputy Legal Adviser, Office of the Legal Adviser, Department of State;

Raymond D. Maxwell, Director, Bureau of Near Eastern Affairs, Department of State; (Outside Member);

James L. Millette, Deputy Assistant Secretary, Bureau of Resource Management, Department of State;

Margaret J. Pollack, Deputy Assistant Secretary, Bureau of Population, Refugees and Migration, Department of State; and

Ruth A. Whiteside, Director, Foreign Service Institute, Department of State.

Dated: October 7, 2009.
Steven A. Browning,
Acting Director General of the Foreign Service and Director of Human Resources, Department of State.

[FR Doc. E9-24823 Filed 10-14-09; 8:45 am]

BILLING CODE 4710-15-P